DEPARTMENT OF THE INTERIOR

Office of the Secretary

Wildland Fire Executive Council Meeting Schedule

AGENCY: Office of the Secretary, Interior.

ACTION: Notice of meetings.

SUMMARY: In accordance with the requirements of the Federal Advisory Committee Act, 5 U.S.C. App., 2, the U.S. Department of the Interior, Office of the Secretary, Wildland Fire Executive Council (WFEC) will meet as indicated below.

DATES: There will be two WFEC meetings in October. The first meeting will be October 11 through October 13. This meeting will begin at 8 a.m. on October 11 and end at 5 p.m. on October 13. The second meeting will be on October 28 and will begin at 10 a.m. and end at 12 noon.

ADDRESSES: The October 11 through 13 meeting will be held in the Interior Operations Center, 3500 Corridor, Main Interior Building, 1849 C Street, Washington, DC 20240. The October 28 meeting will be held from 10 a.m. to 12 noon Eastern Time in the McArdle Room (First Floor Conference Room) in the Yates Federal Building, USDA Forest Service Headquarters, 1400 Independence Ave., SW., Washington, DC 20250,

FOR FURTHER INFORMATION CONTACT: Roy Johnson, Designated Federal Officer, 300 E Mallard Drive, Suite 170, Boise, Idaho 83706; telephone (208) 334-1550; fax (208) 334-1549; or e-mail Roy_Johnson@ios.doi.gov.

SUPPLEMENTARY INFORMATION: The WFEC is established as a discretionary advisory committee under the authorities of the Secretary of the Interior and Secretary of Agriculture, in furtherance of 43 U.S.C. 1457 and provisions of the Fish and Wildlife Act of 1956 (16 U.S.C. 742a-742j), the Federal Land Policy and Management Act of 1976 (43 U.S.C. 1701 et seq.), the National Wildlife Refuge System improvement Act of 1997 (16 U.S.C. 668dd-668ee), and the National Forest Management Act of 1976 (16 U.S.C. 1600 et seq.) and in accordance with the provisions of the Federal Advisory Committee Act, as amended, 5 U.S.C. App. 2. The Secretary of the Interior and Secretary of Agriculture certify that the formation of the WFEC is necessary and is in the public interest.

The purpose of the WFEC is to provide advice on coordinated national-level wildland fire policy and to provide leadership, direction, and program oversight in support of the Wildland Fire Leadership Council. Questions related to the WFEC should be directed to Roy Johnson (Designated Federal Officer) at Roy_Johnson@ios.doi.gov or (208) 334-1550 or 300 E. Mallard Drive, Suite 170, Boise, Idaho, 83706-6648.

Meeting Agenda: The meeting agenda for October 11 through October 13 is summarized below. Please note that the final agenda may be altered. The most current agenda can be obtained at http://www.forestsandrangelands.gov/strategy/wfec.

October 11: 8 a.m.—Introductions and Meeting Protocols; 9 a.m.—Western Regional Strategy Committee Presentation; 10 a.m.—Northeast Regional Strategy Committee Presentation; 1 p.m.—Southeast Regional Strategy Committee Presentation; 2 p.m.—Cohesive Strategy Committee Presentation; 3:30 p.m.—National Science and Analysis Team Presentation; 4:30 p.m.—Public Comments; 5:30 p.m.—Adjourn. October 12: 8 a.m.—WFEC Deliberation on Phase 2 reports; 4 p.m.—Public Comment; 5 p.m.—Adjourn. October 13: 8 a.m.—Summarize recommendations and develop agenda for WFLC meeting; 10 a.m.—Communication Strategy Presentation; 11 a.m.—Develop key messages and recommendations; 1 p.m.—Phase 3 Discussion; 3 p.m.—Public Comments; 4 p.m.—Meeting Closeout; 5 p.m.—Adjourn.

The October 28 meeting agenda will include: (1) Welcome and introduction of Council members; (2) Overview of prior meeting and action tracking; (3) Members' round robin to share information and identify key issues to be addressed; (4) Wildland Fire Management Cohesive Strategy; (5) Wildland Fire Issues; (6) Council Members' review and discussion of sub-committee activities; (7) Future Council activities; (8) Public comments at approximately 11:30 a.m.; (9) and closing remarks.

Public Input: All WFEC meetings are open to the public. Members of the public who wish to participate must notify Shari Shetler at Shari_Shetler@ios.doi.gov no later than one week preceding the meeting. Those who are not committee members and wish to present oral statements or obtain information should contact Shari Shetler via e-mail no later than one week preceding the meeting. Depending on the number of persons wishing to comment and time available, the time for individual oral comments may be limited.

Questions about the agenda or written comments may be e-mailed or submitted by U.S. Mail to: Department of the Interior, Office of the Secretary, Office of Wildland Fire, Attention: Shari Shetler, 300 E. Mallard Drive, Suite 170, Boise, Idaho 83706-6648. WFEC requests that written comments be received a minimum of one week preceding the scheduled meeting. Attendance is open to the public, but limited space is available. Persons with a disability requiring special services, such as an interpreter for the hearing impaired, should contact Ms. Shetler at (202) 527-0133 at least seven calendar days prior to the meeting.

Dated: September 21, 2011.
Roy Johnson,
Designated Federal Officer.

[FR Doc. 2011-24618 Filed 9-23-11; 8:45 am]

BILLING CODE 4310-J4-P